FEDERAL MARITIME COMMISSION

Ocean Transportation Intermediary License Rescission of Order of Revocation

The Commission gives notice that it has rescinded its Order revoking the following license pursuant to section 19 of the Shipping Act of 1984 (46 U.S.C. 40101).

License No.: 023129N.

Name: F.L. Investment Group, Inc. dba Quivas Cargo Express.

Address: 4101 Alverado Street, Orlando, FL 32812.

Order Published: April 3, 2013 (Volume 78, No. 64, Pg. 20108).

Vern W. Hill,
Director, Bureau of Certification and Licensing.

[FR Doc. 2013-09716 Filed 4-23-13; 8:45 am]

BILLING CODE 6730-01-P